FEDERAL COMMUNICATIONS COMMISSION

47 CFR Part 51

[CC Docket Nos. 01-338; CC Docket No. 96-98; CC Docket No. 98-147; FCC 03-36]

Review of the Section 251 Unbundling Obligations of Incumbent Local Exchange Carriers; Implementation of the Local Competition Provisions of the Telecommunications Act of 1996; Deployment of Wireline Services Offering Advanced Telecommunications Capability

AGENCY: Federal Communications Commission.

ACTION: Correcting amendments.

SUMMARY: This document contains corrections to the final rules, which were published in the Federal Register (68 FR 52276, September 2, 2003). The rules established a new standard for determining the existence of impairment under section 251(d)(2) of the Communications Act of 1934, as amended, set forth a new list of unbundled network elements (UNEs), and created a specifically defined role for the states in the unbundling inquiry.

DATES: Effective October 2, 2003.

FOR FURTHER INFORMATION CONTACT: Jeremy Miller, Attorney-Advisor, Wireline Competition Bureau, at (202) 418-1580 or via the Internet at jmiller@fcc.gov.

SUPPLEMENTARY INFORMATION: On September 2, 2003, the Federal Register published a summary of the Commission's Report and Order and Order on Remand, adopted February 20, 2003, and released August 21, 2003, along with final rules adopted by the Commission. This document corrects those rules by replacing portions of §§ 51.318(b) through 51.319(d).

Need for Correction

1. As published, the final rules contain errors which may prove to be misleading and need to be clarified.

List of Subjects in 47 CFR Part 51

Interconnection, Telecommunications carriers.

1. The authority citation for part 51 is revised to read as follows:

Authority: Sections 1-5, 7, 201-05, 207-09, 218, 225-27, 251-54, 256, 271, 303(r), 332, 48 Stat. 1070, as amended, 1077; 47 U.S.C. 151-55, 157, 201-05, 207-09, 218, 225-27, 251-54, 256, 271, 303(r), 332, 47 U.S.C. 157 note, unless otherwise noted.

2. Revise paragraph 51.318(b) introductory text to read as follows:

§ 51.318 Eligibility criteria for access to certain unbundled network elements.

* * * * *

(b) An incumbent LEC need not provide access to an unbundled DS1 loop in combination, or commingled, with a dedicated DS1 transport or dedicated DS3 transport facility or service, or to an unbundled DS3 loop in combination, or commingled, with a dedicated DS3 transport facility or service, or an unbundled dedicated DS1 transport facility in combination, or commingled, with an unbundled DS1 loop or a DS1 channel termination service, or to an unbundled dedicated DS3 transport facility in combination, or commingled, with an unbundled DS1 loop or a DS1 channel termination service, or to an unbundled DS3 loop or a DS3 channel termination service, unless the requesting telecommunications carrier certifies that all of the following conditions are met:

* * * * *

3. Section 51.319 is amended by revising paragraphs (a)(3) introductory text, (a)(3)(i), (d)(2)(iii)(A)(1) and (d)(2)(iii)(A)(2) to read as follows:

§ 51.319 Specific unbundling requirements.

(a) * * *

(3) Fiber-to-the-home loops. A fiber-to-the-home loop is a local loop consisting entirely of fiber optic cable, whether dark or lit, and serving an end user's customer premises.

(i) New builds. An incumbent LEC is not required to provide nondiscriminatory access to a fiber-to-the-home loop on an unbundled basis when the incumbent LEC deploys such a loop to an end user's customer premises that previously has not been served by any loop facility.

* * * * *

(d) * * *

(2) * * *

(iii) * * *

(A) * * *

(1) Local switching self-provisioning trigger. To satisfy this trigger, a state commission must find that three or more competing providers not affiliated with each other or the incumbent LEC, including intermodal providers of service comparable in quality to that of the incumbent LEC, each are serving mass market customers in the particular market with the use of their own local switches.

(2) Local switching competitive wholesale facilities trigger. To satisfy this trigger, a state commission must find that two or more competing providers not affiliated with each other or the incumbent LEC, including intermodal providers of service comparable in quality to that of the incumbent LEC, each offer wholesale local switching service to customers serving DS0 capacity loops in that market using their own switches.

* * * * *

Federal Communications Commission.
Marlene H. Dortch,
Secretary.

[FR Doc. 03-28243 Filed 11-10-03; 8:45 am]

BILLING CODE 6712-01-P